DEPARTMENT OF ENERGY

Federal Energy Regulatory Commission

[Project No. 1894-233]

Dominion Energy South Carolina, Inc.; Notice of Availability of Final Environmental Assessment

In accordance with the National Environmental Policy Act of 1969 and the Federal Energy Regulatory Commission's (Commission or FERC) regulations, 18 CFR part 380, Commission staff reviewed Dominion Energy South Carolina, Inc.'s (licensee) application for a temporary variance request of its seasonal turbine venting period requirements under the license for the Parr Hydroelectric Project No. 1894 and have prepared an Environmental Assessment (EA) for the project.¹ The licensee requests Commission approval to extend the seasonal turbine venting period specified in the project's Turbine Venting Plan (Plan) through October 31, 2025. The Plan requires the licensee to provide turbine venting annually between June 15 and August 31 to increase dissolved oxygen levels downstream of Parr Shoals Dam. Article 401(b) of the project license requires the licensee to obtain Commission approval for extensions exceeding 30 days. The project is located on the Broad River in Newberry and Fairfield counties, South Carolina, and occupies federal lands.

¹ The unique identification number for documents relating to this environmental review is EAXX-019-20-000-1755601134.

The final EA contains Commission staff's analysis of the potential environmental effects of the proposed temporary variance of seasonal venting requirements, alternatives to the proposed action, and concludes that the proposed variance, with appropriate environmental protective measures, would not constitute a major federal action that would significantly affect the quality of the human environment. The final EA may be viewed on the Commission's website at http://www.ferc.gov using the “elibrary” link. Enter the docket number (P-1894-233) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

For further information, contact Ms. Joy Kurtz at 202-502-6760 or joy.kurtz@ferc.gov.

Dated: September 8, 2025.
Debbie-Anne A. Reese,
Secretary.

[FR Doc. 2025-17572 Filed 9-10-25; 8:45 am]

BILLING CODE 6717-01-P